NATIONAL COUNCIL ON DISABILITY

International Watch Advisory Committee Meeting/Teleconference

Time and Date: 12 p.m., EDT, September 26, 2002.

Place: National Council on Disability, 1331 F Street, NW., Suite 850, Washington, DC.

Agency: National Council on Disability (NCD).

Status: All parts of these meetings will be open to the public. Those interested in participating in either the meeting or the conference call should contact the appropriate staff member listed below. Due to limited resources, only a few telephone lines will be available for the conference call.

Agenda: Roll call, announcements, overview of accomplishments, planning for FY 2003, reports, new business, adjournment.

Contact Person for More Information: Joan Durocher, Attorney/Advisor and Designated Federal Official, National Council on Disability, 1331 F Street NW., Suite 850, Washington, DC 20004; 202-272-2004 (voice), 202-272-2074 (TTY), 202-272-2022 (fax), jdurocher@ncd.gov (e-mail).

International Watch Advisory Committee Mission: The purpose of NCD's International Watch is to share information on international disability issues and to advise NCD's International Team on developing policy proposals that will advocate for a foreign policy that is consistent with the values and goals of the Americans with Disabilities Act.

Dated: August 28, 2002.
Ethel D. Briggs,
Executive Director.

[FR Doc. 02-22405 Filed 9-3-02; 8:45 am]

BILLING CODE 6820-MA-P